NATIONAL INDIAN GAMING COMMISSION

Fee Rate

AGENCY: National Indian Gaming Commission.

ACTION: Notice.

SUMMARY: Notice is hereby given, pursuant to 25 CFR 514.1(a) (3), that the National Indian Gaming Commission has adopted final annual fee rates of 0.00% for tier 1 and 0.074% (.00074) for tier 2 for calendar year 2011. These rates shall apply to all assessable gross revenues from each gaming operation under the jurisdiction of the Commission. If a tribe has a certificate of self-regulation under 25 CFR part 518, the final fee rate on class II revenues for calendar year 2011 shall be one-half of the annual fee rate, which is 0.037% (.00037).

FOR FURTHER INFORMATION CONTACT: Chris White, National Indian Gaming Commission, 1441 L Street, NW., Suite 9100, Washington, DC 20005; telephone (202) 632-7003; fax (202) 632-7066.

SUPPLEMENTARY INFORMATION: The Indian Gaming Regulatory Act (IGRA) established the National Indian Gaming Commission which is charged with, among other things, regulating gaming on Indian lands.

The regulations of the Commission (25 CFR part 514), as amended, provide for a system of fee assessment and payment that is self-administered by gaming operations. Pursuant to those regulations, the Commission is required to adopt and communicate assessment rates; the gaming operations are required to apply those rates to their revenues, compute the fees to be paid, report the revenues, and remit the fees to the Commission on a semi-annual basis.

The regulations of the Commission and the final rate being adopted today are effective for calendar year 2011. Therefore, all gaming operations within the jurisdiction of the Commission are required to self administer the provisions of these regulations, and report and pay any fees that are due to the Commission by June 30, 2011.

Dated: June 24, 2011.
Tracie Stevens,
Chairwoman.
Dated: June 24, 2011.
Steffani A. Cochran,
Vice-Chairwoman.
Dated: June 24, 2011.
Daniel Little,
Associate Commissioner.

[FR Doc. 2011-16377 Filed 6-28-11; 8:45 am]

BILLING CODE 7565-01-P